DEPARTMENT OF COMMERCE

National Oceanic and Atmospheric Administration

Proposed Information Collection; Comment Request; Coastal Zone Management Program Administration

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before December 9, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Diana Olinger, 301-563-1149 or e-mail at diana.olinger@noaa.gov.

SUPPLEMENTARY INFORMATION:

I. Abstract

In 1972, in response to intense pressure on coastal resources, and because of the importance of coastal areas of the United States, the Congress passed the Coastal Zone Management Act of 1972 (CZMA). The CZMA authorized a federal program to encourage coastal states and territories to develop comprehensive coastal management programs.

The CZMA has been reauthorized on several occasions, most recently with the enactment of the Coastal Zone Protection Act of 1996. The program is administered by the Secretary of Commerce, who in turn has delegated this responsibility to the National Oceanic and Atmospheric Administration's (NOAA) National Ocean Services (NOS).

The coastal zone management grants provide funds to states and territories to implement federally-approved coastal management plans; complete information for the Coastal Zone Management Program (CZMP) Performance Management System, revise assessment document and multi-year strategy; submit documentation as described in the CZMA Section 306A on the approved coastal zone management plans; submit requests to approve amendments or program changes; and report on the states' coastal nonpoint (not from a specific location) source pollution programs (CNSPP).

II. Method of Collection

Information may be submitted by mail or by e-mail.

III. Data

OMB Control Number: 0648-0119.

Form Number: None.

Type of Review: Regular submission.

Affected Public: State, Local and Tribal Government.

Estimated Number of Respondents: 34.

Estimated Time per Response: Performance reports, 27 hours; assessment and strategy, 240 hours; Section 306A documentation, 5 hours; amendments and routine program changes, 8 hours; CNSPP documentation, 4 hours, and CZMA Performance Management System information, 27 hours.

Estimated Total Annual Burden Hours: 8,261.

Estimated Total Annual Cost to Public: $680.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarify of the information to be collected; and (d) ways to minimize the burden of the collection of information on respondents, including through the use of automated collection techniques or other forms of information technology.

Comments submitted in response to this notice will be summarized and/or included in the request for OMB approval of this information collection; they also will become a matter of public record.

Dated: October 6, 2008.
Gwellnar Banks,
Management Analyst, Office of the Chief Information Officer.

[FR Doc. E8-24018 Filed 10-9-08; 8:45 am]

BILLING CODE 3510-08-P